NUCLEAR REGULATORY COMMISSION

[NRC-2015-0001]

Sunshine Act Meeting Notice

DATES: November 9, 16, 23, 30, December 7, 14, 2015.

PLACE: Commissioners' Conference Room, 11555 Rockville Pike, Rockville, Maryland.

STATUS: Public and Closed.

Week of November 9, 2015

Monday, November 9, 2015

2:45 p.m. Affirmation Session (Public Meeting) (Tentative).

a. Pacific Gas and Electric Company (Diablo Canyon Nuclear Power Plant), Friends of the Earth's Appeal of LBP-15-6 (Tentative)

b. Entergy Nuclear Operations, Inc. (Palisades Nuclear Plant)—Appeal of LBP-15-17 (Tentative)

c. Entergy Nuclear Operations, Inc. (Palisades Nuclear Plant)—Appeal of LBP-15-20 (Tentative)

d. Entergy Nuclear Operations, Inc. (Indian Point Nuclear Generating Units 2 and 3)—Petition for Interlocutory Review of Atomic Safety and Licensing Board's July 20, 2015 Order (Denying New York Motion to Withdraw Proprietary Designation) (Tentative).

Week of November 16, 2015—Tentative

Tuesday, November 17, 2015

9:00 a.m. Briefing on the Status of Lessons Learned from the Fukushima Dai-Ichi Accident (Public Meeting); (Contact: Gregory Bowman: 301-415-2939).

This meeting will be webcast live at the Web address— http://www.nrc.gov/.

Thursday, November 19, 2015

9:00 a.m. Hearing on Combined Licenses for South Texas Project, Units 3 and 4: Section 189a of the Atomic Energy Act Proceeding (Public Meeting); (Contact: Tom Tai: 301-415-8484).

This meeting will be webcast live at the Web address— http://www.nrc.gov/.

Week of November 23, 2015—Tentative

There are no meetings scheduled for the week of November 23, 2015.

Week of November 30, 2015—Tentative

Thursday, December 3, 2015

9:30 a.m. Briefing on Equal Employment Opportunity and Civil Rights Outreach (Public Meeting); (Contact: Larniece McKoy Moore: 301-415-1942).

This meeting will be webcast live at the Web address— http://www.nrc.gov/.

Week of December 7, 2015—Tentative

There are no meetings scheduled for the week of December 7, 2015.

Week of December 14, 2015—Tentative

Tuesday, December 15, 2015

9:00 a.m. Hearing on Construction Permit for SHINE Medical Isotope Production Facility: Section 189a of the Atomic Energy Act Proceeding (Public Meeting); (Contact: Steven Lynch: 301-415-1524).

This meeting will be webcast live at the Web address— http://www.nrc.gov/.

Thursday, December 17, 2015

9:30 a.m. Briefing on Project AIM 2020 (Public Meeting); (Contact: John Jolicoeur 301-415-1642).

This meeting will be webcast live at the Web address— http://www.nrc.gov/.

* * * * *

The schedule for Commission meetings is subject to change on short notice. For more information or to verify the status of meetings, contact Denise McGovern at 301-415-0681 or via email at Denise.McGovern@nrc.gov.

* * * * *

The NRC Commission Meeting Schedule can be found on the Internet at: http://www.nrc.gov/public-involve/public-meetings/schedule.html.

* * * * *

The NRC provides reasonable accommodation to individuals with disabilities where appropriate. If you need a reasonable accommodation to participate in these public meetings, or need this meeting notice or the transcript or other information from the public meetings in another format (e.g. braille, large print), please notify Kimberly Meyer, NRC Disability Program Manager, at 301-287-0739, by videophone at 240-428-3217, or by email at Kimberly.Meyer-Chambers@nrc.gov. Determinations on requests for reasonable accommodation will be made on a case-by-case basis.

* * * * *

Members of the public may request to receive this information electronically. If you would like to be added to the distribution, please contact the Nuclear Regulatory Commission, Office of the Secretary, Washington, DC 20555 (301-415-1969), or email Brenda.Akstulewicz@nrc.gov or Patricia.Jimenez@nrc.gov.

Dated: November 4, 2015.
Denise L. McGovern,
Policy Coordinator, Office of the Secretary.

[FR Doc. 2015-28482 Filed 11-4-15; 4:15 pm]

BILLING CODE 7590-01-P